DEPARTMENT OF COMMERCE

National Oceanic and Atmospheric Administration

Agency Information Collection Activities; Submission to the Office of Management and Budget (OMB) for Review and Approval; Comment Request; NOAA Diving Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 17, 2023 during a 60-day comment period. This notice allows for an additional 30 days for public comments.

Agency: National Oceanic and Atmospheric Administration, Department of Commerce.

Title: NOAA Diving Program.

OMB Control Number: 0648-XXXX.

Form Number(s): None.

Type of Request: Regular submission. This is a new information collection.

Number of Respondents: 483.

Average Hours per Response: The time for response varies depending on the collection instrument. The response times range from one minute to two hours.

Total Annual Burden Hours: 221.

Needs and Uses: This is a request for approval of a collection currently in use without OMB approval.

The NOAA Diving Program (NDP) is administered by the U.S. Department of Commerce, National Oceanic and Atmospheric Administration (NOAA), and is headquartered at the NOAA Western Regional Center (WRC) in Seattle, Washington. The NDP provides the guidelines, policy, and training for all NOAA Divers, which includes all NOAA employees who dive, as well as contractors and volunteers, among others, who conduct diving operations.

With more than 300 divers, the National Oceanic and Atmospheric Administration (NOAA) has the largest complement of divers of any civilian federal agency. NOAA Divers conduct operations in our nation's waters and beyond in support of NOAA's scientific research and operations. They are called upon to work in various conditions ranging from the warm, clear waters of a marine sanctuary, to the cold, murky waters of a commercial harbor. The tasks NOAA Divers complete are as varied as the waters they dive in, with most divers supporting projects and research of the National Ocean Service (NOS), the National Marine Fisheries Service (NMFS), and the Office of Marine and Aviation Operations (OMAO).

NOAA Divers are required to maintain a high level of proficiency, both in practice (in the water) and in theoretical understanding (academic learning) in order to continue to dive at NOAA. In addition, NOAA Divers must maintain medical fitness to dive and are required to send their diving equipment out for maintenance as scheduled. If requirements are not met, divers may become unauthorized to dive or suspended. In order to become NOAA Divers, candidates must first submit a diving physical to the NOAA Diving Medical Officers to determine if they are medically fit to dive. After that, divers must complete medical documentation annually to maintain authorization to dive. To maintain fitness to dive, it is imperative that divers recognize the need for a continual and aggressive exercise program that exceeds basic health maintenance standards.

Affected Public: Individuals.

Frequency: As needed.

Respondent's Obligation: Required to Obtain or Retain Benefits.

Legal Authority: 29 CFR Subpart T, Commercial Diving Operations.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-23251 Filed 10-19-23; 8:45 am]

BILLING CODE 3510-12-P